DEPARTMENT OF STATE

[Public Notice 7214]

Bureau of Educational and Cultural Affairs (ECA) Request for Grant Proposals: FY 2012 Fulbright Scholar Program

Announcement Type: New Cooperative Agreement.

Funding Opportunity Number: ECA/A/E-12-01.

Catalog of Federal Domestic Assistance Number: 19.401.

Key Dates:

Application Deadline: February 18, 2011.

Executive Summary: The Office of Academic Programs, Bureau of Educational and Cultural Affairs (ECA), U.S. Department of State announces an open competition for a cooperative agreement to assist in the FY 2012 administration of the worldwide Fulbright Scholar Program. The Fulbright Scholar Program is a major component of the overall Fulbright Program, which also includes the Fulbright Student Program.

For more than 60 years, the Fulbright Scholar Program has offered awards for college and university faculty, as well as for non-academic professionals (such as lawyers, artists, and journalists) and independent scholars, to lecture and conduct research abroad. Tens of thousands of U.S. and non-U.S. scholars and professionals have participated in these exchanges since the Fulbright Program's inception in 1946.

The Fulbright Scholar Program currently sends approximately 1,300 qualified U.S. scholars and professionals abroad to lecture, conduct research, and provide academic consulting at overseas institutions for long- and short-term programs. Conversely, the program brings approximately 900 visiting (non-U.S.) participants from approximately 150 countries to the United States for similar activities.

Responsibility for the management of the Fulbright Scholar Program is shared between the U.S. Department of State in Washington, DC, fifty bilateral Fulbright commissions, approximately 100 U.S. embassies overseas, and a private sector, cooperating agency in the United States. Overall policy guidelines for the Fulbright Scholar Program are determined by the Presidentially appointed J. William Fulbright Foreign Scholarship Board (FSB).

The organization that is awarded the cooperative agreement under this competition will be responsible for recruitment, selection, placement, facilitation of enrichment activities for participants, program promotion, disbursement of funds, and recordkeeping for both the U.S. and Visiting Fulbright Scholar Programs. This work will be supervised by the Bureau of Educational and Cultural Affairs of the Department of State.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation. The Fulbright Program also receives significant annual funding and other support from partner governments and private donors worldwide.

The Bureau of Educational and Cultural Affairs, as sponsor and manager of the Fulbright Scholar Program, plays a significant role in the planning and implementation of all program initiatives, publicity, promotion, and enrichment activities, as well as liaison with overseas field partners. The Bureau will work closely with the recipient organization on participant selection procedures, development of selection panels, and stipend and benefit issues. Regular ongoing contacts with Bureau managers will be required throughout the program year. Through this Request for Grant Proposals (RFGP), the Department seeks new ideas to develop effective responses to changing recruitment conditions, to improve the outreach of the program in the U.S. and overseas, and to introduce new models for scholarly exchange.

Purpose

The Department of State will provide funding to the successful applicant organization to assist in the administration of both the U.S. and Visiting Fulbright Scholar Program.

The Fulbright Program was created by the U.S. Congress at the end of the World War II to provide the opportunity for future leaders to observe and better comprehend the political, economic, and cultural institutions and societies of other countries and people. In the intervening years, the Fulbright Program has evolved into the premier educational exchange program sponsored by the people of the United States through their federal government, and an important element in the conduct of U.S. foreign affairs. The Fulbright Program, which now extends to more than 150 foreign countries and involves approximately 8,000 participants per year, has helped to form and inform tens of thousands of the world's leaders in every academic and professional field.

The Scholar portion of the Fulbright Program will engage approximately 2,400 scholars and professionals in FY 2012.

The hallmark of the Fulbright Program is binationalism. The United States Government and foreign governments, educational institutions and other public and private entities are all partners in this enterprise. In many countries of the world, financial contributions from governments or public/private sources match or exceed those of the United States. Because of its binational nature, the profile of the Fulbright Program worldwide reflects a range of objectives and interests.

Under the auspices of the J. William Fulbright Foreign Scholarship Board, approximately 800 U.S. citizens are awarded one or two semester Fulbright Scholar grants each year through a merit-based, competitive process, to teach undergraduate or graduate courses at host universities overseas, collaborate with foreign colleagues on projects, pursue individual research, conduct seminars, consult with foreign government ministries and educational institutions, advise on curriculum development and guest lecture at foreign universities other than their host institutions.

All grant opportunities are determined overseas by binational Fulbright commissions and U.S. embassies in coordination with the Department of State's Bureau of Educational and Cultural Affairs in Washington, DC. The cooperative organization administering the Fulbright Scholar Program is responsible for advertising and recruiting applicants in the U.S. and for managing an academic peer review process to recommend candidates for participation in the program.

Similarly, approximately 900 foreign scholars and professionals receive grants each year for research, teaching, guest lecturing and academic consulting in the United States. These participants are chosen through open, merit-based competitions in each country, which are conducted by a bilateral Fulbright commission or, in the absence of a commission, by a U.S. embassy.

Additionally, the Fulbright Scholar Program offers a range of activities in response to changing conditions and requirements within the U.S. academic community and varying circumstances and emerging needs in overseas academic environments. The cooperating organization should be prepared to offer expertise, intellectual input and creative thinking on current research, pedagogical, administrative, institutional, and other academic issues and concerns to promote the relevance, quality and effectiveness of the Fulbright Scholar Program in the U.S. and abroad. The cooperating organization should be prepared to advise the Bureau on international higher education policy issues that are addressed by the Bureau in Fulbright and other contexts.

While maintaining its core long-term activities, the program now includes shorter-term grant opportunities for both U.S. and foreign scholars, new opportunities for collaborative research and support for follow-on activities to build lasting links between U.S. and foreign academic institutions. These initiatives have made the Scholar program more responsive to academic environments and more relevant in supporting long-term U.S. national interests as well as world-wide concerns. The Department continues to seek new program models that respond to changing circumstances in the U.S. and overseas. The cooperating organization will need to demonstrate flexibility to respond quickly to changing priorities and global circumstances when administering and developing programs.

The Fulbright Specialist Program provides short-term (two to six weeks) opportunities for up to 500 U.S. academic specialists annually to work with overseas, post-secondary institutions on projects ranging from lecturing and participation in teaching seminars to collaboration on curriculum and course design.

Through the Scholar-in-Residence component of the Fulbright program, the Bureau brings foreign scholars and professionals for an academic semester or academic year to U.S. campuses that do not often house foreign scholars. These campuses are selected through a competition managed by the cooperating agency.

The Bureau sponsors collaborative research through the global New Century Scholars Program and comparable regional research programs, involving approximately 30 U.S. and foreign scholars working in thematically based cohorts for approximately one year.

These programs require close collaboration between the Bureau, the cooperating agency in the U.S., Fulbright commissions and U.S. embassies overseas. Based on this program's direct relevance to current world issues, the cooperating organization is expected to provide expertise on how academic research collaboration can most effectively address international policy issues and encourage academic and other private sector involvement and support to supplement government funds.

The cooperating agency will also be responsible for other special projects as directed by the Office of Academic Exchange Programs, Bureau of Educational and Cultural Affairs of Department of State, including seminars for Community College and International Education Administrators, and other professional development opportunities for groups of scholars from selected countries.

The Bureau welcomes proposals from applicant organizations proposing additional new scholarly exchange activities consistent with Fulbright principles that are relevant to changing circumstances in the global academic community.

In FY 2012, the Bureau of Educational and Cultural Affairs will continue to seek to strengthen exchanges in parts of the world which have been under-represented in academic exchange programs. The Bureau seeks innovative recruitment approaches and creative strategies to attract U.S. Scholars to these regions.

In a cooperative agreement, ECA/A/E is substantially involved in program activities above and beyond routine monitoring. ECA activities and responsibilities for this program are as follows:

• Participating in the design and direction of program activities;

• Approving of key personnel;

• Approving and providing input on program timelines, agendas and administrative procedures;

• Providing guidance in execution of all program components;

• Reviewing and approving all program publicity and recruitment materials;

• Providing approval of participating scholars, in cooperation with Fulbright commissions and U.S. embassies, subject to final selection by the Fulbright Board;

• Providing approval of changes to scholars proposed field, program, or institution;

• Providing approval of decisions related to special circumstances or problems throughout the duration of program;

• Assisting with non-immigration status and other SEVIS-related issues;

• Assisting with participant emergencies;

• Providing liaison with relevant U.S. embassies,

• Fulbright commissions and country desk officers at the State Department.

II. Award Information

Type of Award: Cooperative Agreement. ECA's level of involvement in this program is listed under number I above.

Fiscal Year Funds: 2012.

Approximate Total Funding: $7,800,000.

Approximate Number of Awards: One.

Approximate Average Award: $7,800,000.

Floor of Award Range: $7,800,000.

Ceiling of Award Range: $7,800,000.

Anticipated Award Date: Pending availability of funds, October 1, 2011.

Anticipated Project Completion Date: September 30, 2015.

Additional Information: Pending successful implementation of this program and the availability of funds in subsequent fiscal years, it is ECA's intent to renew this cooperative agreement for at least four additional fiscal years, before openly competing it again.

III. Eligibility Information

III.1. Eligible applicants

Applications may be submitted by public and private non-profit organizations meeting the provisions described in Internal Revenue Code section 26 USC 501(c)(3).

III.2. Cost Sharing or Matching Funds

There is no minimum or maximum percentage required for this competition.

However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion. The successful recipient organization will be expected to continue to provide cost-sharing in future renewal applications at levels comparable to those provided in the initial competition.

III.3. Other Eligibility Requirements

(a.) Bureau grant guidelines require that organizations with less than four years experience in conducting international exchanges be limited to $60,000 in Bureau funding. ECA anticipates making one award, in an amount up to $7,800,000 to support program and administrative costs required to implement this exchange program. Therefore, organizations with less than four years experience in conducting international exchanges are ineligible to apply under this competition. The Bureau encourages applicants to provide maximum levels of cost sharing and funding in support of its programs.

(b.) Technical Eligibility: All proposals must comply with the technical eligibility requirements specified in the Proposal Submission Instructions (PSI) and the Project Objectives, Goals, and Implementation (POGI) document. Failure to do so will result in your proposal being declared technically ineligible and given no further consideration in the review process.

IV. Application and Submission Information

Note: Please read the complete announcement before sending inquiries or submitting proposals. Once the RFGP deadline has passed, Bureau staff may not discuss this competition with applicants until the proposal review process has been completed.

IV.1 Contact Information To Request an Application Package

Please contact the Office of Academic Exchange Programs, ECA/A/E, SA-5, 4th Floor, U.S. Department of State, 2200 C Street, NW., Washington, DC 20037, telephone (202) 632-3233, fax (202) 632-6490 to request a Solicitation Package. Please refer to the Funding Opportunity Number ECA/A/E-12-01 when making your request.

Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Ms. Michelle Johnson and refer to the Funding Opportunity Number ECA/A/E-12-01 on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the solicitation package. It contains the mandatory Proposal Submission Instructions (PSI) document and the Project Objectives, Goals and Implementation (POGI) document for additional formatting and technical requirements.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to all regulations governing the J visa. The Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements.

The award recipient will be responsible for issuing DS-2019 forms to participants in this program.

A copy of the complete regulations governing the administration of Exchange Visitor (J) programs is available at http://exchanges.state.gov or from: Office of Designation, Private Sector Programs Division, U.S. Department of State, ECA/EC/D/PS, SA-5, 5th Floor, 2200 C Street, NW., Washington, DC 20037.

Please refer to Solicitation Package for further information.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content.

Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3d.4. Describe your plans for: i.e. sustainability, overall program management, staffing, coordination with ECA and PAS or any other requirements etc.

IV.3e. Please take the following information into consideration when preparing your budget:

IV.3e.1. Applicants must submit SF-424A—“Budget Information—Non-Construction Programs” along with a comprehensive budget for the entire program. Depending on the availability of funds, up to $7,800,000 in U.S. Government funding will be available to support the administration of the Fulbright Scholar Program worldwide in FY 2012. In addition, a program budget totaling approximately $45,000,000 for the global Fulbright Scholar Program will be transferred to the recipient organization at regular intervals to cover individual participant costs. There must be a summary budget as well as breakdowns reflecting administrative budget categories.

IV.3e.2. Allowable costs for the program include the following:

(1) staff salaries and benefits;

(2) rent, furniture, and equipment;

(3) travel;

(4) communications, printing, and publishing;

(5) and other fees associated with the normal administration of exchange programs.

Please refer to the Solicitation Package for complete budget guidelines and formatting instructions.

IV.3f. APPLICATION DEADLINE AND METHODS OF SUBMISSION:

Application Deadline Date: February 18, 2011

Reference Number: ECA/A/E-12-01

Methods of Submission: Applications may be submitted in one of two ways:

(1.) In hard-copy, via a nationally recognized overnight delivery service (i.e., Federal Express, UPS, Airborne

(2.) Express, or U.S. Postal Service Express Overnight Mail, etc.), or

(3.) Electronically through http://www.grants.gov.

Along with the Project Title, all applicants must enter the above Reference Number in Box 11 on the SF-424 contained in the mandatory Proposal Submission Instructions (PSI) of the solicitation document.

IV.3f.1 Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 8 copies of the application should be sent to: Program Management Division ECA-IIP/EX/PM, Ref.: ECA/A/E-12-01, SA-5, Floor 4, Department of State, 2200 C Street, NW., Washington, DC 20037.

IV.3f.2—Submitting Electronic Applications. Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support,

Contact Center Phone: 800-518-4726,

Business Hours: Monday-Friday, 7 a.m.-9 p.m. Eastern Time,

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

Optional—IV.3f.3 You may also state here any limitations on the number of applications that an applicant may submit and make it clear whether the limitation is on the submitting organization, individual program director or both.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation:

1. Program planning: Detailed agenda and relevant work plan should demonstrate substantive undertakings and logistical capacity. Agenda and plan should adhere to the program overview and guidelines described above.

2. Ability to achieve program objectives: Objectives should be reasonable, feasible, and flexible. Proposals should clearly demonstrate how the applicant will meet the program's objectives and plans, while demonstrating innovation and a commitment to academic excellence. Proposals should demonstrate a capacity for flexibility in the management of the program.

3. Support of Diversity: Proposals should demonstrate the recipient's commitment to promoting the awareness and understanding of diversity.

4. Institutional Capacity: Proposed personnel and institutional resources should be adequate and appropriate to achieve Fulbright Scholar Program goals in all respects. Applicants should demonstrate well-established links to the scholarly and professional community in the U.S. and knowledge of other educational environments as they apply to academic and professional exchange programs.

5. Institution's Record/Ability: Proposals should demonstrate an institutional record of successful exchange programs, including responsible fiscal management and full compliance with all reporting requirements for past Bureau awards (grants or cooperative agreements) as determined by the Bureau's Office of Contracts. The Bureau will consider the past performance of prior recipients and the demonstrated potential of new applicants.

6. Project Evaluation: Proposals should include a plan to evaluate the activity's success, both as the activities unfold and at the end of the program. The Bureau recommends that the proposal include a draft survey questionnaire or other technique plus description of a methodology to use to link outcomes to original project objectives. Award-receiving organizations/institutions will be expected to submit intermediate reports after each project component is concluded or quarterly, whichever is less frequent.

7. Cost-effectiveness and Cost-sharing: The overhead and administrative components of the proposal, including salaries and honoraria, should be kept as low as possible. All other items should be necessary and appropriate. The proposal should maximize cost-sharing through other private sector support as well as institutional direct funding contributions.

VI. Award Administration Information

VI.1a. Award Notices

Final awards cannot be made until funds have been appropriated by Congress, allocated and committed through internal Bureau procedures. Successful applicants will receive an Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Donna Ives, Branch Chief for Middle East Programs, 202-632-6050 for additional information.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://fa.statebuy.state.gov.

VI.3. Reporting Requirements

You must provide ECA with a hard copy original plus one copy of the following reports:

A final program and financial report no more than 90 days after the expiration of the award;

(1.) A concise, one-page final program report summarizing program outcomes no more than 90 days after the expiration of the award. This one-page report will will be transmitted to OMB, and be made available to the public via OMB's USAspending.gov Web site—as part of ECA's Federal Funding Accountability and Transparency Act (FFATA) reporting requirements.

(2.) A SF-PPR, “Performance Progress Report” Cover Sheet with all program reports.

(3.) Additional reporting requirements as outlined in the POGI document.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Michelle Johnson, U.S. Department of State, Office of Academic Exchange Programs, ECA/A/E, SA-5, 4th Floor, 2200 C Street, NW., Washington, DC 20037, tel. (202) 632-3233 and fax (202) 632-6490, JohnsonML3@state.gov.

All correspondence with the Bureau concerning this RFGP should reference the above title and number ECA/A/E-12-01.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: October 21, 2010.
Ann Stock,
Assistant Secretary for Educational and Cultural Affairs, Department of State.

[FR Doc. 2010-27301 Filed 10-27-10; 8:45 am]

BILLING CODE 4710-05-P